DEPARTMENT OF ENERGY

Federal Energy Regulatory Commission

[Docket No. CP15-88-000]

Tennessee Gas Pipeline Company, L.L.C.; Notice of Schedule for Environmental Review of the Abandonment and Capacity Restoration Project

On February 13, 2015, Tennessee Gas Pipeline Company, L.L.C. (Tennessee) filed an application in Docket No. CP15-88-000 pursuant to sections 7(b) and 7(c) of the Natural Gas Act, requesting a certificate of public convenience and necessity to construct, operate, and maintain certain natural gas pipeline facilities, and authorization to abandon certain facilities, collectively known as the Abandonment and Capacity Restoration Project (Project). The Project purpose is to disconnect and abandon segments of the Tennessee pipeline system, which would be removed from interstate natural gas service. Tennessee further proposes as part of the Project to construct and operate new natural gas infrastructure to maintain the service and capacity of the remaining existing natural gas system at its current level.

On March 2, 2015, the Federal Energy Regulatory Commission (Commission or FERC) issued its Notice of Application for the Project. The notice alerted agencies responsible for issuing federal authorizations of the requirement to complete necessary reviews and reach a final decision on a request for a federal authorization within 90 days of the date of issuance of the Environmental Assessment (EA) prepared by Commission staff. This Notice of Schedule identifies the Commission staff's planned schedule for the completion of the EA for the Project.

Schedule for Environmental Review

Issuance of EA—September 2, 2016

90-day Federal Authorization Decision Deadline—December 1, 2016

If a schedule change becomes necessary, additional notice will be provided so the relevant agencies are kept informed of the Project's progress.

Project Description

Tennessee proposes to abandon in place and remove from service approximately 964 miles of Tennessee's existing pipelines that run from Natchitoches Parish, Louisiana, through Tennessee and Kentucky, to Columbiana County, Ohio. Tennessee currently operates six parallel pipelines that transport natural gas from the Gulf of Mexico region to the Northeast markets. The proposed Project would occur on Tennessee's existing 100 and 200 Lines. In order to replace capacity that would be lost due to the abandonment, Tennessee would modify and construct certain facilities along the existing pipelines not proposed for abandonment including four new mid-point compressor stations in Ohio, a new 7.7-mile-long pipeline loop ¹ in Kentucky, and modifications to existing compressor stations in Kentucky. The Project would also require the removal of certain crossovers, taps, valves and miscellaneous pipe, and the relocation and/or installation of new taps to complete the physical separation of the abandoned line from Tennessee's retained pipelines.

¹ A pipeline loop is a segment of pipe constructed parallel to an existing pipeline to increase capacity.

Background

On April 17, 2015, the Commission issued a Notice of Intent To Prepare an Environmental Assessment for the Proposed Abandonment and Capacity Restoration Project and Request for Comments on Environmental Issues (NOI). The NOI was sent to affected landowners; federal, state, and local government agencies; elected officials; environmental and public interest groups; Native American tribes; other interested parties; and local libraries and newspapers. In response to Tennessee's application and the NOI, the Commission received comments from affected landowners, interested individuals and organizations, elected officials, and federal, state, and local agencies.

The primary issues raised by the commentors included concerns about increasing pressure in older pipelines, exposed pipelines, and corrosion; concerns about repurposing existing pipelines for transport of natural gas liquids; air quality and noise impacts; karst topography and cumulative impacts.

Additional Information

In order to receive notification of the issuance of the EA and to keep track of all formal issuances and submittals in specific dockets, the Commission offers a free service called eSubscription. This can reduce the amount of time spent researching proceedings by automatically providing notification of these filings, document summaries, and direct links to the documents. Go to www.ferc.gov/docs-filing/esubscription.asp.

The FERC's eLibrary system can also be used to search formal issuances and submittals from the public docket. To use, select the “eLibrary” link, select “General Search” from the eLibrary menu located at www.ferc.gov/docs-filing/elibrary.asp, enter the selected date range and “Docket Number” excluding the last three digits (i.e., CP15-88), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Additional information about the Project is available from the Commission's Office of External Affairs at (866) 208-FERC or on the FERC Web site (www.ferc.gov).

Dated: June 30, 2016.
Nathaniel J. Davis, Sr.,
Deputy Secretary.

[FR Doc. 2016-16235 Filed 7-8-16; 8:45 am]

BILLING CODE 6717-01-P